DEPARTMENT OF STATE

[Public Notice: 12610]

Review of the Foreign Terrorist Organization Designations of al-Qa'ida in the Indian Subcontinent, Boko Haram, Hizballah, ISIS-West Africa, and Jemaah Islamiyah

Based upon a review of the Administrative Records assembled pursuant to section 219(a)(4)(C) of the Immigration and Nationality Act, as amended (8 U.S.C. 1189(a)(4)(C)) (“INA”), and in consultation with the Attorney General and the Secretary of the Treasury, the Secretary of State concluded that the circumstances that were the basis for the designations of al-Qa'ida in the Indian Subcontinent (and other aliases); Boko Haram (and other aliases); Hizballah (and other aliases); ISIS-West Africa (and other aliases); and Jemaah Islamiyah (and other aliases) as Foreign Terrorist Organizations have not changed in such a manner as to warrant revocation of the designations and that the national security of the United States does not warrant a revocation of the designations.

Therefore, the Secretary of State has determined that the designations of the aforementioned organizations, pursuant to Section 219 of the INA (8 U.S.C. 1189), shall be maintained.

This determination shall be published in the Federal Register.

Hillary Batjer Johnson,
Deputy Coordinator, Bureau of Counterterrorism, Department of State.

[FR Doc. 2024-31259 Filed 12-27-24; 8:45 am]

BILLING CODE 4710-AD-P